SECURITIES AND EXCHANGE COMMISSION

[File No. 500-1]

Act Manufacturing, Inc., Aerovox, Inc. (n/k/a New Bedford Capacitor, Inc.), Agility Capital, Inc., Air Water International Corp. (f/k/a Universal Communications Systems, Inc.), Allegiant Physician Services, Inc., and Alpha Microsystems, Inc. (n/k/a NQL, Inc.); Order of Suspension of Trading

April 21, 2009.

It appears to the Securities and Exchange Commission that there is a lack of current and accurate information concerning the securities of Act Manufacturing, Inc. because it has not filed any periodic reports since the period ended September 30, 2001.

It appears to the Securities and Exchange Commission that there is a lack of current and accurate information concerning the securities of Aerovox, Inc. (n/k/a New Bedford Capacitor, Inc.) because it has not filed any periodic reports since the period ended March 31, 2001.

It appears to the Securities and Exchange Commission that there is a lack of current and accurate information concerning the securities of Agility Capital, Inc. because it has not filed any periodic reports since the period ended June 30, 2002.

It appears to the Securities and Exchange Commission that there is a lack of current and accurate information concerning the securities of Air Water International Corp. (f/k/a Universal Communications Systems, Inc.) because it has not filed any periodic reports since the period ended June 30, 2006.

It appears to the Securities and Exchange Commission that there is a lack of current and accurate information concerning the securities of Allegiant Physician Services, Inc. because it has not filed any periodic reports since the period ended June 30, 1996.

It appears to the Securities and Exchange Commission that there is a lack of current and accurate information concerning the securities of Alpha Microsystems, Inc. (n/k/a NQL, Inc.) because it has not filed any periodic reports since the period ended September 30, 2001.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 21, 2009, through 11:59 p.m. EDT on May 4, 2009.

By the Commission.
Elizabeth M. Murphy,
Secretary.

[FR Doc. E9-9418 Filed 4-21-09; 4:15 pm]

BILLING CODE 8010-01-P